DEPARTMENT OF TRANSPORTATION

Federal Aviation Administration

14 CFR Part 71

[Docket No. FAA-2023-1276; Airspace Docket No. 22-AEA-37]

RIN 2120-AA66

Amendment of United States Area Navigation (RNAV) Routes; Eastern United States

AGENCY: Federal Aviation Administration (FAA), DOT.

ACTION: Final rule.

SUMMARY: This action amends six United States Area Navigation (RNAV) Q-routes in the eastern United States. This action supports the Northeast Corridor Atlantic Coast Routes (NEC ACR) Optimization Project to improve the efficiency of the National Airspace System (NAS).

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a NPRM for Docket No. FAA-2023-1276 in the Federal Register (88 FR 36976; June 6, 2023), proposing to amend six RNAV Q-routes in the eastern United States. This action supports the NEC ACR Optimization Project to improve the efficiency of the NAS. Interested parties were invited to participate in this rulemaking effort by submitting written comments on the proposal. No comments were received.

Incorporation by Reference

United States Area Navigation Routes (Q-routes) are published in paragraph 2006 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending RNAV routes Q-97, Q-117, Q-131, Q-167, Q-409, and Q-439 to enhance the efficiency of the NEC ACR Optimization Project, resolve issues of similar sounding waypoint (WP) names that may cause confusion in communications, and to remove points that are not required in the route descriptions.

Q-97: Prior to this final rule, Q-97 extended from the TOVAR, FL, WP to the Presque Isle, ME (PQI), Very High Frequency (VHF) Omnidirectional Range/Distance Measuring Equipment (VOR/DME). This action removes the following WPs and one Fix from the route because they do not denote a turn of one degree or more: EBAYY, FL; ELMSZ, SC; YURCK, NC; YEASO, NC; KOHLS, NC; HEADI, NJ; SAILN, OA (i.e., OA means Offshore Atlantic); BEEKN, ME; and the BRIGS, NJ, Fix. In addition, the DELAAY, MD, WP is moved, along the route, 11.5 nautical miles (NM) south of its current position. The move is required to deconflict New York arrival traffic from departures that are climbing southbound on RNAV routes Q-97 and Q-167. These changes do not affect the alignment of Q-97.

Q-117: Prior to this final rule, Q-117 extended from the YLEEE, NC, WP to the SAWED, VA, WP. This action changes the name of the YLEEE, NC, WP to the PRONI, NC, WP to eliminate confusion with another similar sounding WP name. This has led to navigation system data entry errors. The PRONI, NC, WP has the same latitude/longitude coordinates as the YLEEE, NC, WP so the alignment of Q-117 remains unchanged. As amended, Q-117 extends from the PRONI, NC, WP to the SAWED, VA, WP.

Q-131: Prior to this final rule, Q-131 extended from the ZILLS, NC, WP to the ZJAAY, MD, WP. To resolve confusion with similar sounding WP names, this action changes the name of the ZILLS, NC, WP to the WAALT, NC, WP; and changes the YLEEE, NC, WP to the PRONI, NC, WP. The new WP names retain the same latitude/longitude coordinates as the ones they replace. This action also removes the route segment from KALDA, VA, WP to the ZJAAY, MD, WP. That segment is being incorporated into RNAV route Q-101 in order to match the Q-route structure with preferred routing and air traffic control system automation, to improve the efficiency to the NAS. As amended, Q-131 extends from the WAALT, NC, WP to the KALDA, VA, WP.

Q-167: Prior to this final rule, Q-167 extended from the ZJAAY, MD, WP to the SSOXS, MA, Fix. This action extends Q-167 12 NM southwestward from the ZJAAY, MD, WP to the KALDA, VA, WP in order to link with additional Q-routes. In addition, the following WPs are removed from the route description because they do not denote a turn of one degree or more: TOPRR, OA; SPDEY, OA; GRONC, NY, and NESTT, RI. The YAZUU, NJ, Fix, and the EMJAY, NJ, Fix are also removed for the same reason. The following Fixes in the Q-167 route description are reclassified as WPs to match the National Airspace System Resource (NASR) database updates: ZIZZI, NJ; RIFLE, NY; and HOFFI, NY. As amended, Q-167 extends from the KALDA, VA, WP to the SSOXS, MA, Fix.

Q-409: Prior to this final rule, Q-409 extended from the ENEME, GA, WP to the WHITE, NJ, Fix. This action changes the name of the GNARO, DE, WP to the OYVAY, DE, WP due to word pronunciation issues causing confusion for flight crews during radio communications. In addition, the OYVAY, DE, WP is relocated 4.37 NM southwest of the GNARO, DE, WP position. The TRPOD, MD, WP is moved approximately 0.5 NM from its current position per air traffic control request. In addition, the JROSS, SC, WP and the DEEEZ, NC, WP are be removed from the route description because they do not denote a turn of one degree or more. As amended, Q-409 extends from the ENEME, GA, WP to the WHITE, NJ, Fix.

Q-439: Prior to this final rule, Q-439 extended from the BRIGS, NJ, Fix to the Presque Isle, ME (PQI), VOR/DME. Air traffic control requested that Q-439 be extended southwest from the BRIGS, NJ, Fix to overlie a portion of existing RNAV route Q-445 from BRIGS to a new HOWYU, DE, WP. This adds the HOWYU, DE, WP as the new starting point for Q-439. The RADDS, DE, Fix, and the WNSTN, NJ, WP are added to the route description between the HOWYU, DE, WP and the MANTA, NJ, Fix.

The following Fixes are removed from the route description because they do not denote a turn of one degree or more: BRIGS, NJ; DRIFT, NJ; PLUME, NJ; SHERL, NJ; DUNDEE, NY; and FRIAR, ME. In addition, the RIFLE, NY, Fix is reclassified as a WP to match the NASR database updates. As amended, Q-439 extends from the HOWYU, DE, Fix to the Presque Isle, ME (PQI), VOR/DME.

Full descriptions of the amended routes are listed the amendments to part 71 set forth below. The FAA makes these changes in support of the NEC ACR Optimization Project to improve the efficiency of the NAS.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending RNAV routes Q-97, Q-117, Q-131, Q-167, Q-409, and Q-439 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”; and paragraph 5-6.5i, which categorically excludes from further environmental review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR part 71 of FAA Order JO 7400.11G, Airspace Designations and Reporting Points, dated August 19, 2022, and effective September 15, 2022, is amended as follows:

Paragraph 2006 United States Area Navigation Routes

* * * * *

Q-97 TOVAR, FL to Presque Isle, ME (PQI) [Amended]
TOVAR, FL | WP | (Lat. 26°33′05.09″ N, long. 080°02′19.75″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 26°33′05.09″ N, long. 080°02′19.75″ W)
CAKET, SC | WP | (Lat. 28°41′29.90″ N, long. 080°52′04.30″ W)
ELLDE, NC | WP | (Lat. 29°17′48.73″ N, long. 081°08′02.88″ W)
PAACK, NC | WP | (Lat. 29°34′28.35″ N, long. 081°07′25.26″ W)
SAWED, VA | FIX | (Lat. 29°49′05.67″ N, long. 081°07′20.74″ W)
KALDA, VA | WP | (Lat. 30°37′36.03″ N, long. 081°04′26.44″ W)
ZJAAY, MD | WP | (Lat. 26°33′05.09″ N, long. 080°02′19.75″ W)
DLAAY, MD | WP | (Lat. 28°41′29.90″ N, long. 080°52′04.30″ W)
Calverton, NY (CCC) | VOR/DME | (Lat. 29°17′48.73″ N, long. 081°08′02.88″ W)
NTMEG, CT | WP | (Lat. 29°34′28.35″ N, long. 081°07′25.26″ W)
VENTE, MA | WP | (Lat. 29°49′05.67″ N, long. 081°07′20.74″ W)
BLENO, NH | WP | (Lat. 30°37′36.03″ N, long. 081°04′26.44″ W)
FRIAR, ME | FIX | (Lat. 26°33′05.09″ N, long. 080°02′19.75″ W)
Presque Isle, ME (PQI) | VOR/DME | (Lat. 28°41′29.90″ N, long. 080°52′04.30″ W)
* * * * * * *
Q-117 PRONI, NC to SAWED, VA [Amended]
PRONI, NC | WP | (Lat. 34°33′40.63″ N, long. 077°40′27.89″ W)
CUDLE, NC | WP | (Lat. 35°08′19.48″ N, long. 077°32′36.22″ W)
KTEEE, NC | WP | (Lat. 35°54′55.66″ N, long. 076°57′30.45″ W)
SAWED, VA | WP | (Lat. 37°32′00.73″ N, long. 075°51′29.10″ W)
* * * * * * *
Q-131 WAALT, NC to KALDA, VA [Amended]
WAALT, NC | WP | (Lat. 33°47′32.68″ N, long. 077°52′08.59″ W)
PRONI, NC | WP | (Lat. 34°33′40.63″ N, long. 077°40′27.89″ W)
EARZZ, NC | WP | (Lat. 35°54′39.84″ N, long. 076°51′21.64″ W)
ODAWG, VA | WP | (Lat. 37°07′11.61″ N, long. 076°02′03.17″ W)
KALDA, VA | WP | (Lat. 37°50′31.05″ N, long. 075°37′35.34″ W)
* * * * * * *
Q-167 KALDA, VA to SSOXS, MA [Amended]
KALDA, VA | WP | (Lat. 37°50′31.06″ N, long. 075°37′35.34″ W)
ZJAAY, MD | WP | (Lat. 38°03′09.95″ N, long. 075°26′34.27″ W)
PAJET, DE | WP | (Lat. 38°28′04.13″ N, long. 075°03′00.55″ W)
CAANO, DE | WP | (Lat. 38°31′46.37″ N, long. 074°58′52.32″ W)
TBONN, OA | WP | (Lat. 38°45′02.83″ N, long. 074°45′03.77″ W)
ZIZZI, NJ | WP | (Lat. 38°56′26.46″ N, long. 074°31′44.27″ W)
RIFLE, NY | WP | (Lat. 40°41′24.18″ N, long. 072°34′54.89″ W)
HOFFI, NY | WP | (Lat. 40°48′03.46″ N, long. 072°27′41.97″ W)
ORCHA, NY | WP | (Lat. 40°54′55.46″ N, long. 072°18′43.64″ W)
ALBOW, NY | WP | (Lat. 41°02′04.04″ N, long. 071°58′30.69″ W)
BUZRD, MA | WP | (Lat. 41°32′45.88″ N, long. 070°57′50.69″ W)
SSOXS, MA | FIX | (Lat. 41°50′12.62″ N, long. 070°44′46.26″ W)
* * * * * * *
Q-409 ENEME, GA to WHITE, NJ [Amended]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
SESUE, SC | WP | (Lat. 33°52′02.58″ N, long. 079°33′51.88″ W)
OKNEE, SC | WP | (Lat. 34°15′39.92″ N, long. 079°10′40.68″ W)
MRPIT, NC | WP | (Lat. 34°26′05.09″ N, long. 079°01′45.10″ W)
GUILD, NC | WP | (Lat. 36°18′49.56″ N, long. 077°14′59.96″ W)
CRPLR, VA | WP | (Lat. 37°36′24.01″ N, long. 076°09′57.67″ W)
TRPOD, MD | WP | (Lat. 38°20′20.33″ N, long. 075°32′01.85″ W)
OYVAY, DE | WP | (Lat. 39°02′18.85″ N, long. 075°26′18.04″ W)
VILLS, NJ | WP | (Lat. 39°18′03.87″ N, long. 075°06′37.89″ W)
Coyle, NJ (CYN) | VORTAC | (Lat. 39°49′02.42″ N, long. 074°25′53.85″ W)
WHITE, NJ | FIX | (Lat. 40°00′24.32″ N, long. 074°15′04.61″ W)
* * * * * * *
Q-439 HOWYU, DE to Presque Isle, ME (PQI) [Amended]
HOWYU, DE | WP | (Lat. 38°28′39.48″ N, long. 075°14′01.16″ W)
RADDS, DE | FIX | (Lat. 38°38′54.80″ N, long. 075°05′18.48″ W)
WNSTN, NJ | WP | (Lat. 39°05′43.81″ N, long. 074°48′01.20″ W)
MANTA, NJ | FIX | (Lat. 39°54′07.01″ N, long. 073°32′31.63″ W)
SARDI, NY | FIX | (Lat. 40°31′26.61″ N, long. 072°47′55.87″ W)
RIFLE, NY | WP | (Lat. 40°41′24.18″ N, long. 072°34′54.89″ W)
FOXWD, CT | WP | (Lat. 41°48′21.66″ N, long. 071°48′07.03″ W)
BOGRT, MA | WP | (Lat. 42°13′56.08″ N, long. 071°31′07.37″ W)
BLENO, NH | WP | (Lat. 42°54′55.00″ N, long. 071°04′43.37″ W)
BEEKN, ME | WP | (Lat. 43°20′51.95″ N, long. 070°44′50.28″ W)
Presque Isle, ME (PQI) | VOR/DME | (Lat. 46°46′27.07″ N, long. 068°05′40.37″ W)

* * * * *

Issued in Washington, DC, on July 19, 2023.
Karen L. Chiodini,
Acting Manager, Rules and Regulations Group.

[FR Doc. 2023-15633 Filed 7-24-23; 8:45 am]

BILLING CODE 4910-13-P